ENVIRONMENTAL PROTECTION AGENCY

[EPA-HQ-OPP-2018-0423; FRL-9983-88]

Agency Information Collection Activities; Proposed Renewal of an Existing Collection (EPA ICR No. 2451.02); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Soil and Non-Soil Fumigant Risk Mitigation” and identified by EPA ICR No. 2451.02 and OMB Control No. 2070-0197, represents the renewal of an existing ICR that is scheduled to expire on April 30, 2019. Before submitting the ICR to OMB for review and approval, EPA is soliciting comments on specific aspects of the proposed information collection that is summarized in this document. The ICR and accompanying material are available in the docket for public review and comment.

DATES: Comments must be received on or before November 26, 2018.

ADDRESSES: Submit your comments, identified by docket identification (ID) number EPA-HQ-OPP-2018-0423, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Ryne Yarger, Field and External Affairs Division (7506P), Office of Pesticide Programs, Environmental Protection Agency, 1200 Pennsylvania Ave. NW, Washington, DC 20460-0001; telephone number: (703) 605-1193; email address: yarger.ryne@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Soil and Non-Soil Fumigant Risk Mitigation.

ICR number: EPA ICR No. 2451.02.

OMB control number: OMB Control No. 2070-0197.

ICR status: This ICR is currently scheduled to expire on April 30, 2019. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: In completing reviews of several soil and non-soil fumigants pursuant to section 4(g) of the Federal Insecticide, Fungicide, and Rodenticide Act (FIFRA), the EPA determined that these fumigants are eligible for reregistration only if specific risk mitigation measures, as outlined in Reregistration Eligibility Decisions for the chemicals, are adopted and adequately implemented. This ICR addresses the paperwork activities that both users and registrants of these specific soil and non-soil fumigants must perform in order to comply with the required risk mitigation measures.

Without the complete suite of measures, these soil and non-soil fumigant chemicals do not meet the requirements to be eligible for registration or reregistration under FIFRA. The programs and activities represented in this ICR are the result of the Agency exercising the authority of section 3(c)(2)(B) or section 3(c)(5) of FIFRA, which authorizes EPA to require pesticide registrants to generate and submit data to the Agency, when such data are needed to maintain an existing registration of a pesticide. Due to the high benefits of these chemicals, there could be significant economic impact if these fumigant products are no longer available.

Burden statement: The annual public reporting and recordkeeping burden for this collection of information is estimated to average 2.9 hours per response. Burden is defined in 5 CFR 1320.3(b).

The ICR, which is available in the docket along with other related materials, provides a detailed explanation of the collection activities and the burden estimate that is only briefly summarized here:

Respondents/affected entities: Entities potentially affected by this ICR are soil and non-soil fumigant users, specifically certified applicators and agriculture pesticide handlers (NAICS 111000—Agriculture, Forestry, Fishing and Hunting); soil and non-soil fumigant registrants (NAICS 325300—Pesticide, Fertilizer, and Other Agricultural Chemical Manufacturing); and state and tribal lead agencies (NAICS 999200—State Government).

Estimated total number of potential respondents: 113,071.

Frequency of response: On occasion.

Estimated total average number of responses for each respondent: 5.

Estimated total annual burden hours: 1,693,353 hours.

Estimated total annual costs: $60,356,426. This includes an estimated burden cost of $59,425,592 and an estimated cost of $930,834 for capital investment or maintenance and operational costs.

III. Are there changes in the estimates from the last approval?

There is an increase of 1,495,707 hours in the total estimated respondent burden compared with that identified in the ICR currently approved by OMB. For the soil fumigation activities, there was a change in burden hours from 197,646 to 198,262, which is primarily due to updating the estimated number of certified applicators and handlers potentially involved in soil fumigation activities. Additionally, EPA is now accounting for certain non-soil fumigant risk mitigation activities. For the non-soil fumigation activities, there is an increase in burden from 0 to 1,495,091 hours, which is related to the implementation of statutory responsibilities associated with the registration review of certain non-soil fumigant pesticides. The difference in burden hours between these two types of fumigation activities is driven by the annual estimate of applications. It is estimated that there are 12,651 soil fumigation applications and 263,200 non-soil fumigation applications per year. The total annual respondent burden for this ICR is estimated to be 1,693,352 burden hours for both soil and non-soil fumigations. These changes are the result of adjustments to the estimated number of respondents for the soil fumigant risk mitigation activities, and the result of a programmatic change to incorporate the information collection activities related to the non-soil fumigant risk mitigation activities.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the person listed under FOR FURTHER INFORMATION CONTACT.

Authority: 44 U.S.C. 3501 et seq.

Dated: September 13, 2018.
Charlotte Bertrand,
Acting Principal Deputy Assistant Administrator, Office of Chemical Safety and Pollution Prevention.

[FR Doc. 2018-20957 Filed 9-25-18; 8:45 am]

BILLING CODE 6560-50-P